DEPARTMENT OF COMMERCE

[Docket Number: 201022-0278]

RIN 0605-XD012

Industry Day for Space Policy Directive-3: Open Architecture Data Repository; Meeting

AGENCY: Office of Space Commerce, Department of Commerce.

ACTION: Notice of a meeting.

SUMMARY: The Office of Space Commerce (OSC) in the U.S. Department of Commerce announces an event to solicit input from the commercial space industry and the related information technology sector regarding the design, development, operation and governance for Space Policy Directive-3 (SPD-3): National Space Traffic Management Policy's Open Architecture Data Repository (OADR) requirement. The OADR will assist with managing the integrity of the space operating environment by improving Space Situational Awareness coverage and accuracy through greater data sharing with satellite operators, and with enabling the commercial development of enhanced space safety services.

DATES: The West Coast Day meeting will be held on Monday, 23 November 2020 and the East Coast Day meeting will be held on Tuesday, 24 November 2020.

ADDRESSES: Prior registration through the event website is required at this link: https://docs.google.com/forms/d/1LcLkuSI3RTxDGN--Y_lpZnK_Ueja9G1-WOR6J-e4e-U/edit.

FOR FURTHER INFORMATION CONTACT: Mary Cull, Office of Space Commerce, U.S. Department of Commerce, Washington, DC 20030, phone 202-763-4051, or email mary.cull@noaa.gov. For inquiries specifically related to press and/or media, please contact Chelsey Neuhaus at cneuhaus@doc.gov.

SUPPLEMENTARY INFORMATION: Space Policy Directive-3, National Space Traffic Management Policy (83 FR 28969) places responsibility for addressing commercial space situational awareness (SSA) and space traffic management (STM) services upon the Department of Commerce. To this end, the Department of Commerce announces an event to solicit input from the commercial space industry and the related information technology sector regarding the design, development, operation and governance for SPD-3 National Space Traffic Management Policy's Open Architecture Data Repository (OADR) requirement.

The event will be open to the public, up to the capacity of the virtual meeting hosting service that will be used for the event. Prior registration through the event website is required at this link: https://docs.google.com/forms/d/1LcLkuSI3RTxDGN--Y_lpZnK_Ueja9G1-WOR6J-e4e-U/edit.

It is recommended that confirmed attendees plan to log on a few minutes in advance.

The event will be organized as two days of meetings, as follows:

West Coast Day, Monday, 23 November 2020

• 1:00 p.m. to 3:00 p.m. (Eastern Standard Time): Two-hour general session with a presentation by OSC representatives and time for questions and answers about SSA and STM and the OADR.

• 3:30 p.m. to 6:30 p.m. (Eastern Standard Time): Three-hour session with nine 15-minute one-on-one sessions between OSC representatives and industry stakeholders.

East Coast Day, Tuesday, 24 November 2020

• 10:00 a.m. to 12:00 p.m. (Eastern Standard Time): Two-hour general session with a presentation by OSC representatives and time for questions and answers about SSA and STM and the OADR.

• 12:30 p.m. to 3:30 p.m. (Eastern Standard Time): Three-hour session with nine 15-minute one-on-one sessions between OSC representatives and industry stakeholders.

The agenda for the meetings will include the following topics:

• Space Situational Space Flight Safety Overview

• Space Policy Directive 3: National Space Traffic Management

• The Office of Space Commerce

• The Open Architecture Data Repository

• Input from Industry

Dated: October 22, 2020
Kevin O'Connell,
Director, Office of Space Commerce, U.S. Department of Commerce.

[FR Doc. 2020-23771 Filed 10-26-20; 8:45 am]

BILLING CODE 3510-12-P